DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on July 16, 2002 (67 FR 46701-46702).

DATES: Comments must be submitted on or before April 21, 2003.

FOR FURTHER INFORMATION CONTACT: Marvin Levy, Ph.D. at the National Highway Traffic Safety Administration, Office of Research and Technology (NTS-131), 202-366-5597, 400 Seventh Street, SW., Room 5319, Washington, DC 20590.

SUPPLEMENTARY INFORMATION: National Highway Traffic Safety Administration.

Title: National and State Surveys of Alcohol Targets of Opportunity.

OMB Number: 2127—New.

Type of Request: New collection.

Abstract: Recent data show an increase in alcohol-related crashes. In 1999, 16,572 persons were killed in alcohol-related crashes; in 2000, it rose to 17,380 and for 2001, it rose again to 17,448 deaths. Based on this alarming trend, the NHTSA Administrator has made it an agency goal to reduce the death rate, from 0.63 to 0.53 deaths per 100-million vehicle miles traveled. To further this goal, during the next few years, NHTSA will be supporting programmatic efforts at the State and local level that are aimed at substantially reducing alcohol-related crashes and injuries. This data collection supports NHTSA's programmatic efforts and involves twice-yearly National alcohol enforcement and publicity mobilizations that focus on States having the highest fatality rates and/or number of alcohol-related fatalities.

Affected Public: Individuals or households.

Estimated Total Annual Burden: 2,167 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on March 14, 2003.
Marilena Amoni,
Associate Administrator, Program Development and Delivery.

[FR Doc. 03-6753 Filed 3-20-03; 8:45 am]

BILLING CODE 4910-59-P